DEPARTMENT OF EDUCATION

Federal Perkins Loan, Federal Work-Study, and Federal Supplemental Educational Opportunity Grant Programs; 2022-23 Award Year Deadline Dates

In notice document 2022-01897 beginning on page 4871 in the issue of Monday, January 31, 2022, make the following correction:

On page 4872, in the table, under the heading “What is the deadline for submission?”, entry five should read “Tuesday, November 1, 2022.”.

[FR Doc. C1-2022-01897 Filed 2-10-22; 8:45 am]

BILLING CODE 1505-01-D